DEPARTMENT OF COMMERCE

International Trade Administration

Notice of Scope Rulings

AGENCY: Import Administration, International Trade Administration, Department of Commerce.

DATES: Effective Date: August 27, 2009.

SUMMARY: The Department of Commerce (“Department”) hereby publishes a list of scope rulings completed between January 1, 2009, and March 31, 2009. In conjunction with this list, the Department is also publishing a list of requests for scope rulings and anticircumvention determinations pending as of March 31, 2009. We intend to publish future lists after the close of the next calendar quarter.

FOR FURTHER INFORMATION CONTACT: Matthew Renkey, AD/CVD Operations, China/NME Group, Import Administration, International Trade Administration, U.S. Department of Commerce, 14th Street and Constitution Avenue, NW., Washington, DC 20230; telephone: 202-482-2312.

SUPPLEMENTARY INFORMATION:

Background

The Department's regulations provide that the Secretary will publish in the Federal Register a list of scope rulings on a quarterly basis. See 19 CFR 351.225(o). Our most recent notification of scope rulings was published on March 31, 2009. See Notice of Scope Rulings, 74 FR 14521 (March 31, 2009). This current notice covers all scope rulings and anticircumvention determinations completed by Import Administration between January 1, 2009, and March 31, 2009, inclusive, and it also lists any scope or anticircumvention inquiries pending as of March 31, 2009. As described below, subsequent lists will follow after the close of each calendar quarter.

Scope Rulings Completed Between January 1, 2009, and March 31, 2009

Germany

A-428-801: Ball Bearings and Parts Thereof From Germany

Requestor: myonic GmbH; dental turbine assemblies are outside the scope of the antidumping duty order; January 12, 2009.

A-428-801: Ball Bearings and Parts Thereof From Germany

Requestor: myonic GmbH; certain X-ray spindle units are outside the scope of the antidumping duty order; January 12, 2009.

A-428-801: Ball Bearings and Parts Thereof From Germany

Requestor: myonic GmbH; certain gyro units are outside the scope of the antidumping duty order; January 12, 2009.

People's Republic of China

A-570-827: Cased Pencils From the People's Republic of China

Requestor: Paper Magic Group (“PMG”); PMG's children's Valentine card sets with pencils are outside the scope of the antidumping duty order; March 12, 2009.

A-570-827: Cased Pencils From the People's Republic of China

Requestor: Walgreen Co.; the three graphite pencils and three cased charcoal drawing pencils contained in Walgreens' “Artskills Draw & Sketch Kit” are within the scope of the antidumping duty order; the remaining items contained in Walgreens' “Artskills Draw & Sketch Kit,” including one pencil sharpener, one sanding pad, one black eraser, one kneaded eraser and one tortillion, are outside the scope of the antidumping duty order; March 10, 2009.

A-570-866: Folding Gift Boxes From the People's Republic of China

Requestor: Footstar; four boxes for business cards and forms (length × width: 5 x 3.5; 7 x 3.5; 12.125 x 3.5; and 11 × 8.5) are outside the scope of the antidumping duty order; February 9, 2009.

A-570-866: Folding Gift Boxes from the People's Republic of China

Requestor: Hallmark Cards, Inc.; the “FunZip” gift presentation is within the scope of the antidumping duty order; March 17, 2009.

A-570-890: Wooden Bedroom Furniture From the People's Republic of China

Requestor: Armel Enterprises, Inc.; certain children's playroom and accent furniture are within the scope of the antidumping duty order; March 4, 2009.

A-570-890: Wooden Bedroom Furniture From the People's Republic of China

Requestor: Acme Furniture Industry, Inc.; certain mattress supports (item nos. 2833, 2834, 2835, 2836 and 2837) are outside the scope of the antidumping duty order; March 17, 2009.

A-570-890: Wooden Bedroom Furniture From the People's Republic of China

Requestor: Zinus, Inc. and Zinus (Xiamen) Inc.; the Smartbox mattress support and box spring are outside the scope of the antidumping duty order; March 24, 2009.

A-570-891: Hand Trucks From the People's Republic of China

Requestor: Corporate Express Inc.; luggage cart model number CEB31210 is within the scope of the antidumping duty order, and luggage cart model number CEB31490 is outside the scope of the antidumping duty order; February 11, 2009.

A-570-898: Chlorinated Isocyanurates From the People's Republic of China

Requestor: BioLab, Inc.; chlorinated isocyanurates produced and exported from Vietnam by Tian Hua (Vietnam) SPC Industries Ltd. are not covered by the antidumping duty order; March 23, 2009.

A-570-901: Lined Paper Products From the People's Republic of China

Requestor: Lakeshore Learning Materials; Lakeshore's printed educational materials, product numbers RR973 and RR974 (Reader's Book Log); RR673 and RR674 (My Word Journal); AA185 and AA186 (Mi Diario de Palabras); AA786 and AA787 (My First Draw & Write Journal); AA181 and AA182 (My Picture Word Journal); GG324 and GG325 (Writing Prompts Journal); Lakeshore's printed educational materials, product numbers GG185 and GG186 (Reader's Response Notebook); GG181 and GG182 (The Writer's Notebook); RR630 and RR631 (Draw & Write Journal) are within the scope of the antidumping duty order; March 4, 2009.

A-570-901: Lined Paper Products From the People's Republic of China

Requestor: Lakeshore Learning Materials; Lakeshore's printed educational materials, product numbers EE441 and EE442 (Daily Math Practice Journal Grades 1-3); EE443 and EE444 (Daily Math Practice Journal Grades 4-6); EE651 and EE652 (Daily Language Practice, Grades 1-3); EE653 and EE654 (Daily Language Practice Journal, Grades 4-6), are outside the scope of the antidumping duty order; March 4, 2009.

A-570-916 and C-570-917: Laminated Woven Sacks From the People's Republic of China

Requestor: Archer Daniels Midland Company; Products A and Product B described as: (1) Made of a single ply of woven polypropylene strip; (2) laminated with biaxially-oriented polypropylene (“BOPP”) are within the scope of the antidumping and countervailing duty orders; (3) printed in three colors; and (4) of less than one kilogram in weight are within the scope of the antidumping duty order; Products C, D and F described as each having no lamination or coating of BOPP are outside the scope of the antidumping and countervailing duty orders; and Product E described as: (1) Made of a single ply of woven polypropylene strip; (2) laminated with BOPP; (3) printed in two colors; and (4) less than one kilogram in weight is outside the scope of the antidumping and countervailing duty orders; February 17, 2009.

Anticircumvention Determinations Completed between January 1, 2009, and March 31, 2009:

None.

Scope Inquiries Terminated Between January 1, 2009, and March 31, 2009:

None.

Anticircumvention Inquiries Terminated between January 1, 2009, and March 31, 2009:

None.

Scope Inquiries Pending as of March 31, 2009

Japan

A-588-046: Polychloroprene Rubber From Japan

Requestor: Denka Corporation; whether Denka's solid polychloroprene product, known as DCR37, is within the scope of the antidumping duty order; requested March 9, 2009.

Norway

A-403-801 and C-403-802: Fresh and Chilled Atlantic Salmon from Norway

Requestor: Changing Seas; whether its whole salmon steaks are within the scope of the antidumping and countervailing duty orders; requested February 5, 2009.

People's Republic of China

A-570-504: Petroleum Wax Candles From the People's Republic of China

Requestor: America's Gardening Resource; whether its citronella rope candles are within scope of the antidumping duty order; requested February 23, 2009.

A-570-504: Petroleum Wax Candles From the People's Republic of China

Requestor: ZNP Creative Co., Ltd.; whether its “5 minute Candle Set” is within the scope of the antidumping duty order; requested March 18, 2009.

A-570-504: Petroleum Wax Candles From the People's Republic of China

Requestor: RAB Foods; whether its “Yahrzeit” candle is within the scope of the antidumping duty order; requested March 25, 2009.

A-570-806: Silicon Metal From the People's Republic of China

Requestor: Globe Metallurgical Inc.; whether certain silicon metal exported by Ferro-Alliages et Mineraux to the United States from Canada is within the scope of the antidumping duty order; requested October 1, 2008.

A-570-864: Pure Magnesium in Granular Form From the People's Republic of China

Requestor: ESM Group Inc.; whether atomized ingots are within the scope of the antidumping duty order; original scope ruling rescinded and vacated April 18, 2007 ¹; initiated April 18, 2007; preliminary ruling issued August 27, 2008.

¹ See Notice of Scope Rulings, 72 FR 43245, 43246 (August 3, 2007).

A-570-868: Folding Metal Tables and Chairs From the People's Republic of China

Requestor: New Tec Integration Co., Ltd.; whether New Tec's chair using two U-shaped steel tubes to form the front and rear legs, and not utilizing the cross-bracing typically affixed to the leg frame by rivets, welds, and fasteners, is within the scope of the antidumping duty order; requested July 30, 2008; initiated September 24, 2008.

A-570-890: Wooden Bedroom Furniture From the People's Republic of China

Requestor: Target Corporation; whether the Shabby Chic secretary desk and mirror are within the scope of the antidumping duty order; requested November 30, 2007.

A-570-891: Hand Trucks From the People's Republic of China

Requestor: Northern Tool & Equipment Co.; whether a high-axle torch cart (item #164771) is within the scope of the antidumping duty order; requested March 23, 2007.

A-570-891: Hand Trucks From the People's Republic of China

Requestor: Safco Products Co.; whether its StowAway Cart (Model 4062) and Stow And Go Cart (Model 4049) are within the scope of the antidumping duty order; requested October 16, 2008; initiated November 28, 2008.

A-570-891: Hand Trucks From the People's Republic of China

Requestor: E & B Giftware, LLC; whether the Samsonite Micro Mover Fold Away Carry-On Luggage Cart, the Samsonite Compact Luggage Cart, and the American Tourister Swing Wheel Luggage Cart are within the scope of the antidumping duty order; requested March 23, 2009.

A-570-899: Artist Canvas From the People's Republic of China

Requestor: C2F, Inc.; whether framed artist canvas in two forms (i.e., 65% polyester, 35% cotton bulk or 100% cotton bulk) woven in the Republic of Korea and cut and framed in the People's Republic of China are within the scope of the antidumping duty order; requested September 4, 2008.

A-570-899: Artist Canvas From the People's Republic of China

Requestor: Art Supplies Enterprises, Inc.; whether framed artist canvas woven and primed in Vietnam and cut and framed in the People's Republic of China is within the scope of the antidumping duty order; requested December 22, 2008.

A-570-901: Lined Paper Products From the People's Republic of China

Requestor: Livescribe Inc., whether the patented dot-patterned paper (trademarked “ANOTO”) is within the scope of the antidumping duty order; requested October 24, 2008.

A-570-901: Lined Paper Products From the People's Republic of China

Requestor: PlanAhead LLC; whether writing cases, writing portfolios, portfolios and padfolios, 70314 Professional Padfolio; 70689 Contour Padfolio; 72055 Urban Padfolio; 72537 Fashion Padfolio, are within the scope of the antidumping duty order; requested November 17, 2008.

A-570-901: Lined Paper Products From the People's Republic of China

Requestor: Wal-Mart Stores, Inc., whether the notebook component, when imported as part of the complete stationery set, is within the scope of the antidumping duty order; requested March 6, 2009.

A-570-904: Certain Activated Carbon From the People's Republic of China

Requestor: Rolf C Hagen (USA) Corp; whether certain fish filter parts are within the scope of the antidumping duty order; requested November 14, 2008.

A-570-909: Certain Steel Nails From the People's Republic of China

Requestor: Shanghai March Import & Export Co., Ltd.; whether the horseshoe nails imported by Shanghai March Import & Export Co., Ltd., are within the scope of the antidumping duty order; requested October 17, 2008.

A-570-910: Certain Welded Carbon Quality Steel Pipe From the People's Republic of China

Requestor: Constantine N. Polites and Company; whether unfinished scaffolding pipe is within the scope of the antidumping duty order; requested March 30, 2009.

A-570-916 and C-570-917: Laminated Woven Sacks From the People's Republic of China

Requestor: Shapiro Packaging; whether its “Manna Pro Calf Manna,” “Manna Pro Horse Feed,” and “Red Head Deer Corn” sacks are within the scope of the antidumping duty order; requested March 20, 2009.

A-570-918: Steel Wire Garment Hangers From the People's Republic of China

Requestor: Econoco Corporation; whether chrome-plated hangers with a certain diameter are within the scope of the antidumping duty order; requested December 3, 2008.

A-570-918: Steel Wire Garment Hangers From the People's Republic of China

Requestor: American Hanger; whether chrome-plated hangers with a certain diameter are within the scope of the antidumping duty order; requested December 1, 2008.

A-570-924: PET Film From the People's Republic of China

Requestor: Coated Fabrics Company; whether Amorphous PET (“APET”), Glycol-modified PET (“PETG”), and coextruded APET and with PETG on its outer surfaces (“GAG Sheet”) are within the scope of the order; requested February 12, 2009.

Multiple Countries

A-570-922 and C-570-923: Raw Flexible Magnets From the People's Republic of China; A-583-842: Raw Flexible Magnets From Taiwan

Requestor: Direct Innovations; whether certain decorative retail magnets are within the scope of the antidumping and countervailing duty orders; requested March 20, 2009.

Anticircumvention Rulings Pending as of March 31, 2009

People's Republic of China

A-570-849: Cut-to-Length Carbon Steel Plate From the People's Republic of China

Requestor: Nucor Corporation, SSAB N.A.D., Evraz Claymont Steel, Evraz Oregon Steel Mills, and ArcelorMittal USA Inc.; whether adding metallurgically and economically insignificant amounts of boron is a minor alteration that circumvents the antidumping duty order; requested August 13, 2008; initiated October 10, 2008.

A-570-868: Folding Metal Tables and Chairs From the People's Republic of China

Requestor: Meco Corporation; whether the common leg table (a folding metal table affixed with cross bars that enable the legs to fold in pairs) produced in the People's Republic of China is a minor alteration that circumvents the antidumping duty order; requested October 31, 2005; preliminary ruling issued October 27, 2008.

A-570-894: Certain Tissue Paper Products From the People's Republic of China

Requestor: Seaman Paper Company of Massachusetts, Inc.; whether imports of tissue paper from Thailand made out of jumbo rolls and sheets of tissue paper from the People's Republic of China are completed or assembled in other foreign countries and are circumventing the antidumping duty order; requested September 10, 2008; initiated October 27, 2008.

Interested parties are invited to comment on the completeness of this list of pending scope and anticircumvention inquiries. Any comments should be submitted to the Deputy Assistant Secretary for AD/CVD Operations, Import Administration, International Trade Administration, 14th Street and Constitution Avenue, NW., APO/Dockets Unit, Room 1870, Washington, DC 20230.

This notice is published in accordance with 19 CFR 351.225(o).

Dated: August 20, 2009.
John M. Andersen,
Acting Deputy Assistant Secretary for Antidumping and Countervailing Duty Operations.

[FR Doc. E9-20721 Filed 8-26-09; 8:45 am]

BILLING CODE 3510-DS-P